DEPARTMENT OF HEALTH AND HUMAN SERVICES

Centers for Disease Control and Prevention

[Program Announcement 00043]

Grants for National Academic Centers of Excellence on Youth Violence Prevention; Notice of Availability of Funds for Fiscal Year 2000

A. Purpose

The Centers for Disease Control and Prevention (CDC) announces the availability of fiscal year (FY) 2000 funds for development of National Academic Centers of Excellence on Youth Violence Prevention (Centers). CDC is committed to achieving the health promotion and disease prevention objectives of “Healthy People 2010,” a national activity to reduce morbidity and mortality and improve the quality of life. This announcement is related to the focus areas of injury and violence prevention, and mental health and mental disorders. For the conference copy of “Healthy People 2010”, visit the Internet site: <http://www.health.gov/healthypeople>.

The primary goals of this program are to: (1) Build the scientific infrastructure necessary to support the development and widespread application of effective youth violence interventions, (2) promote interdisciplinary research strategies to address the problem of youth violence (3) foster collaboration between academic researchers and communities, and (4) empower communities to address the problem of youth violence.

B. Eligible Applicants

Eligible applicants are academic health centers, defined as public and private nonprofit universities, colleges, and university-associated teaching hospitals.

Note: Effective January 1, 1996, Public Law 104-65 states that an organization described in section 501(c)(4) of the Internal Revenue Code of 1986 which engages in lobbying activities shall not be eligible to receive Federal funds constituting an award, grant, contract, loan, or any other form.

C. Availability of Funds

Approximately $7,000,000 is available in FY 2000 to fund approximately seven to ten Centers. Applicants may apply for either a Developing Center or a Comprehensive Center, however, not for both.

Awards will begin on or about September 30, 2000, and will be made for a 12-month budget period. Developing Centers may be funded up to three years and Comprehensive Centers may be funded up to five years. Funding estimates may vary and are subject to change. Continuation awards within the project period will be made on the basis of satisfactory progress and the availability of funds.

Awards for Developing Centers are expected to average $400,000 per year with a project period not to exceed three years. Awards for Comprehensive Centers are expected to average $1,000,000 per year and may be made up to a total of $1,500,000 per year (total of direct and indirect costs) with a project period not to exceed five years. For Comprehensive Center research projects can be submitted under two themes, Developmental/Risk Factor (DRF) Research and Efficacy/Effectiveness (EE) Research. Comprehensive Center applicants must submit from one to three DRF research project proposals, and/or from one to three EE research project proposals. Applicants may also apply for both themes under one Center for a cost of $1.5 million.

Use of Funds

Core budget with justification for categories corresponding to core activities, to include funds for management functions, non research activities, small one-year pilot projects of less than $15,000. The core budget should include items for development and implementation of a community response plan for youth violence, and development and implementation of curricula for training of health professionals.

D. Program Requirements

The following are applicant requirements for Developing and Comprehensive Centers:

1. Demonstrated expertise in:

(a) Research in risk and protective factors for youth violence and/or development and evaluation of preventive interventions for youth violence;

(b) Capacity to develop and facilitate implementation of a multi-disciplinary and multi-organizational community response plan for youth violence;

2. Provide evidence of capacity to develop, deliver, and maintain a training curriculum for health care professionals.

3. Provide a director (Principal Investigator) who has specific authority and responsibility to carry out the project. The director must report to an appropriate institutional official, e.g., dean of a school, or vice president of a university. The director must have no less than 30 percent effort devoted solely to this project.

4. Provide evidence of working relationships with outside agencies and other entities which will allow for implementation of any proposed intervention activities.

5. Provide evidence of involvement of a multi-disciplinary and multi-organizational group of specialists or experts in primary care, behavioral, and/or preventive medicine, epidemiology, law and criminal justice, behavioral and social sciences, and/or public health as needed to complete the plans of the center.

6. Demonstrate through documentation that full working partners must have established curricula and graduate training programs in disciplines relevant to youth violence prevention (e.g., epidemiology, criminology, social sciences, and behavioral sciences).

7. Demonstrate an established relationship with youth violence prevention programs through letters of commitment. Also include, established or planned relationships with organizations/individual leaders in communities where youth violence related injuries occur at high rates. A letter of support from an appropriate public health agency for support of the proposed center is required.

The following are additional applicant requirements for Comprehensive Centers only:

1. Demonstrated experience in successfully conducting, evaluating, and publishing youth violence prevention research and/or designing, implementing, and evaluating youth violence prevention programs (to include self-directed violence among the young).

2. Demonstrated ongoing youth violence prevention research projects and/or projects to develop and evaluate youth violence prevention interventions.

3. Demonstrated the capacity to disseminate youth violence prevention research findings, translate them into interventions, and evaluate their effectiveness.

E. Application Content

Use the information in the Program Requirements, Other Requirements, and Evaluation Criteria sections to develop application content. Your application will be evaluated on the criteria listed, so it is important to follow them in laying out your program plan. The narrative should not be more than 25 single-spaced pages, printed on one side, with one inch margins, and unreduced font. Applications should follow the PHS 398 (rev. 4/98) application and Errata sheet, and should include the following information.

1. Cover Letter Outlining type of Center (Developing or Comprehensive) applying for.

2. Core budget (required for Developing and Comprehensive Centers).

F. Submission and Deadline

Letter of Intent (LOI)

Potential applicants should submit a LOI to the Grants Management Specialist identified in the Where to Obtain Additional Information section. Submit the original and two copies of the (LOI) on or before April 24, 2000. It should include what type of Center (Developing or Comprehensive) they may be applying. If applying for Comprehensive Center, identify which research areas will be addressed in the application; i.e, Development/Risk Factor and/or Efficacy Effectiveness. The LOI must also include the name and telephone number, of a contact person from the applicant institution. LOI's are intended for planning purposes only and are not binding. Facsimiles and E-mails are not accepted.

Application

Submit the original and five copies of PHS 398 (OMB Number 0925-0001) and adhere to the instructions on the Errata Instruction sheet for PHS 398). Forms are in the application kit. On or before May 22, 2000, submit applications to the Grants Management Specialist identified in the Where to Obtain Additional Information section of this announcement.

Deadline: Applications shall be considered as meeting the deadline if they are received either:

(a) On or before the deadline date; or

(b) Sent on or before the deadline date, and received in time for submission to the Special Emphasis Panel. (Applicants should request a legibly dated U.S. Postal Service postmark or obtain a legibly dated receipt from a commercial carrier or the U.S. Postal Service. Private metered postmarks shall not be acceptable as proof of timely mailing).

Late Applications: Applications which do not meet the criteria in (a) or (b) above are considered late applications, will not be considered, and will be returned to the applicant. Bound materials may not be included in any part of the application.

Each proposed research project requires an RO1-type application using Form PHS 398 (Rev. 4/98) (http://grants.nih.gov/grants/forms.htm). The guidelines and page limits set forth in the PHS 398 should be followed, and the project should be included as a separate and distinct part of the overall application. Appendices for research projects shall not exceed 15 pages.

Additionally, within the narrative of the research plan section, include a brief description of each project in the following format (not to exceed one page for each Project):

Title of Project,

Topic Area; i.e., Developmental/Risk Factor and/or Efficacy/Effectiveness.

G. Evaluation Criteria

Each application will be evaluated individually against the following criteria by a Special Emphasis Panel appointed by CDC. Applications which are complete and responsive will be subjected to a preliminary evaluation (triage) by a Special Emphasis Panel(SEP) to determine if the application is of sufficient technical and scientific merit to warrant further full review by the SEP. Those applications judged to be competitive will be further evaluated by a dual peer review process. CDC will withdraw from further consideration of applications judged to be noncompetitive.

Priority scores will be assigned by the SEP to the core and Efficacy/Effectiveness (EE) and Developmental/Risk Factor (DRF)applications.

1. Review by the Special Emphasis Panel (SEP)

a. Initial peer review of the applications will be conducted by the SEP, which will either recommend or not recommend the application for further consideration for funding.

Factors to be considered by the SEP for Core funding include:

(a) The specific aims of the application, e.g., the long-term objectives and intended accomplishments for the proposed Center in relation to the problem of preventing youth violence and self-directed violence among the young. If the aims of the application are achieved, how will prevention of youth violence be advanced? What will be the effect of the Center's activities on violence prevention efforts within the Center's target community or region?

(b) The extent to which the evaluation plan will allow for the measurement of progress toward the achievement of stated objectives of the proposed Center.

(c) Qualifications, adequacy, and appropriateness of personnel to accomplish the proposed activities. Project director: Is the proposed Center director appropriately trained and well-suited to carry out this work? Is the work proposed appropriate to the experience level of the proposed director and other key faculty and staff?

(d) Adequacy of institutional support and arrangements to ensure successful implementation of activities of the proposed Center; including arrangements for the Center director's time commitment and authority; and also including documentation of relationships and understanding of roles and responsibilities between partner institutions, and community organizations.

(e) Adequacy of plans to conduct pilot projects. Overall relevance of the project for the field of violence prevention. Adequacy of the setting and participants for the project. Relevance of outcome measurements, and expected results. Appropriateness of time lines, cost, and plans for translation/dissemination.

(f) Adequacy of plans and arrangements to develop and implement a community response to the problem of youth violence bringing together diverse perspectives (i.e. health and mental health professionals, educators, the media, parents, young people, police, criminal/juvenile courts, legislators, public health specialists, and business leaders. Documentation of agreements and clear understanding of roles and responsibilities of partner organizations.

(g) Adequacy of plans and arrangements to develop and implement curricula for training of health care professionals on violent behavior identification, assessment and intervention with high risk youth, and integrate this curriculum into medical, nursing, and other health professional training program.

(h) Does the application adequately address the requirements of Title 45 CFR Part 46 for the protection of human subjects?

(i) Does the applicant meet the CDC Policy requirements regarding the inclusion of women, ethnic, and racial groups in the proposed research?

Factors to be considered by the SEP in reviewing Developmental/Risk Factors and Efficacy/Effectiveness research projects include:

(a) Does this research project application address an important problem? If the aims of the application are achieved, how will scientific prevention knowledge be advanced? What will be the effect of these studies on the concepts or methods that drive this field forward?

(b) Are the conceptual framework, design, methods, and analyses adequately developed, well-integrated, and appropriate to the aims of the research project application? Does the applicant acknowledge potential problem areas and consider alternative tactics?

(c) Does the research project employ novel concepts, approaches or methods? Are the aims original and innovative? Does the research project challenge existing paradigms or develop new methodologies or technologies?

(d) Is the investigator appropriately trained and well-suited to carry out this work? Is the work proposed appropriate to the experience level of the principal investigator and other researchers?

(e) Does the scientific environment in which the work will be done contribute to the probability of success? Does the proposed project take advantage of unique features of the scientific environment or employ useful collaborative arrangements? Is there evidence of institutional support?

(f) Does the application adequately address the requirements of Title 45 CFR Part 46 for the protection of human subjects?

(g) Does the applicant meet the CDC Policy requirements regarding the inclusion of women, ethnic, and racial groups in the proposed research?

2. Review by the CDC Advisory Committee for Injury Prevention and Control (ACIPC)

Secondary review of applications will be conducted by the Science and Program Review Work Group (SPRWG) of the ACIPC. The SPRWG consists of ACIPC members, Federal ex officio participants, and organizational liaisons. The Federal ex officio participants will be responsible for identifying projects in overlapping areas of research interest so that unwarranted duplication in federally-funded research can be avoided. At the request of the SPRWG, the appropriate NCIPC divisional Associate Director for Science (ADS) or their designee may be invited to address the SPRWG during the secondary review to assure that research priorities of the announcement are understood and to provide background regarding current research activities. The SPRWG may reach over better ranked projects in order to assure maximal impact and balance of proposed research.

Factors to be considered by the ACIPC include:

a. The results of the peer (SEP) review.

b. The significance of the proposed activities as they relate to national program priorities and the achievement of national objectives.

c. National and NCIPC priority needs and geographic balance.

d. The significance of the proposed activities in relation to the priorities and objectives stated in Healthy People 2010.

e. Budgetary considerations.

SPRWG members will vote on funding recommendations. The SPRWG may vote to approve, disapprove, or modify the recommendations for funding.

These recommendations will be presented to the entire ACIPC in the form of a report by the Chairman of the SPRWG. The ACIPC can vote to approve, disapprove, or modify these recommendations for funding consideration. Recommendations are then presented to the Director, NCIPC, for funding decisions.

H. Other Requirements

Technical Reporting Requirements

Provide CDC with original plus two copies of

1. Progress reports (annual);

2. Financial status report, no more than 90 days after the end of the budget period; and

3. Final financial status report and performance report, no more than 90 days after the end of the project period.

Send all reports to the Grants Management Specialist identified in the Where to Obtain Additional Information section of this announcement.

The following additional requirements are applicable to this program. For a complete description of each see Addendum 1 in the application kit.

AR-1 Human Subjects Certification

AR-2 Requirements for inclusion of Women and Racial and Ethnic Minorities in Research

AR-9 Paperwork Reduction Act Requirements

AR-10 Smoke-Free Workplace Requirement

AR-11 Healthy People 2010

AR-12 Lobbying Restrictions

AR-13 Prohibition on Use of CDC funds for Certain Gun Control Activities

AR-20 Conference Activities within Grants/Cooperative Agreements

I. Authority and Catalog of Federal Domestic Assistance Number

This program is authorized under Sections 301, 391, 392, 393, and 394 of the Public Health Service Act, [42 U.S.C. 241, 280b, 280b-1, 280b-1a, and 280b-2] as amended. Program regulations are set forth in 42 CFR Part 52. The catalog of Federal Domestic Assistance number is 93.136.

J. Where To Obtain Additional Information

For this announcement and other CDC program announcements see the CDC home page on the Internet: http://www.cdc.gov. To receive additional written information and to request an application kit, call 1-888-GRANTS4 (1-888-472-6874). You will be asked to leave you name and address and will be instructed to identify the number for the announcement of interest. A complete program description and information on application procedures are contained in the application package.

Please refer to Announcement 00043 when requesting information and submitting an application. If you have questions after reviewing the contents of all the documents, business management technical assistance may be obtained from: Sheryl L. Heard, Grants Management Specialist, Grants Management Branch, Procurement and Grants Office, Centers for Disease Control and Prevention, 2920 Brandywine Road, Room 3000, Atlanta, GA 30341-4146, Telephone number (770) 488-2723, Email address slh3@cdc.gov.

Programmatic technical assistance may be obtained from: Enrique Nieves, Jr., Project Officer, Division of Violence Prevention, National Center for Injury Prevention and Control, Centers for Disease Control and Prevention (CDC), 4770 Buford Highway, NE., (K-60), Atlanta, GA 30341-3724, Telephone number (770) 488-1281, Internet address: exn2@cdc.gov.

Other Potential Sources of Funds

The National Institute of Mental Health (NIMH) of NIH has announced the availability of funds for research grants in prevention strategies for disruptive behavior disorders in children and adolescents. The purpose of the RFA (RFA No. MH-00-011) is to encourage research applications addressing implementation, replication, and deployment strategies for sustaining prevention programs targeted towards reducing risks for or the onset of disruptive behavior problems in youth. The NIMH program announcements are available at http://www.nimh.nih.gov/grants/index.cfm.

Dated: March 17, 2000.
Henry S. Cassell III,
Acting Director, Procurement and Grants Office, Centers for Disease Control and Prevention (CDC).

[FR Doc. 00-7167 Filed 3-22-00; 8:45 am]

BILLING CODE 4163-18-P